DEPARTMENT OF ENERGY

Federal Energy Regulatory Commission

Combined Notice of Filings #2

Take notice that the Commission received the following electric rate filings:

Docket Numbers: ER11-2154-009.

Applicants: Twin Eagle Resource Management, LLC.

Description: Notice of Change in Status of Twin Eagle Resource Management, LLC.

Filed Date: 4/30/18.

Accession Number: 20180430-5504.

Comments Due: 5 p.m. ET 5/21/18.

Docket Numbers: ER13-102-014.

Applicants: New York Independent System Operator, Inc.

Description: Compliance filing: Amendment Order 1000 compliance—incorrect base tariff document to be effective 4/1/2016.

Filed Date: 5/2/18.

Accession Number: 20180502-5110.

Comments Due: 5 p.m. ET 5/23/18.

Docket Numbers: ER18-728-002.

Applicants: California Independent System Operator Corporation.

Description: Compliance filing: 2018-05-02 RAAIM Methodology Modifications Compliance to be effective 5/1/2018.

Filed Date: 5/2/18.

Accession Number: 20180502-5094.

Comments Due: 5 p.m. ET 5/23/18.

Docket Numbers: ER18-954-001.

Applicants: Appalachian Power Company.

Description: Tariff Amendment: OATT-Attachment K, AEPTX Rate Update—Amendment to be effective 5/2/2018.

Filed Date: 5/2/18.

Accession Number: 20180502-5109.

Comments Due: 5 p.m. ET 5/23/18.

Docket Numbers: ER18-1505-000.

Applicants: Southwest Power Pool, Inc.

Description: § 205(d) Rate Filing: 2452R2 KEPCO NITSA NOA to be effective 6/1/2018.

Filed Date: 5/2/18.

Accession Number: 20180502-5052.

Comments Due: 5 p.m. ET 5/23/18.

Docket Numbers: ER18-1506-000.

Applicants: Southern California Edison Company.

Description: § 205(d) Rate Filing: Third Amended CLGIA Mesa Wind Project SA No. 395 to be effective 7/2/2018.

Filed Date: 5/2/18.

Accession Number: 20180502-5065.

Comments Due: 5 p.m. ET 5/23/18.

Docket Numbers: ER18-1508-000.

Applicants: Midcontinent Independent System Operator, Inc.

Description: § 205(d) Rate Filing: 2018-05-02_SA 3111 Bayou Bend Solar-ELL GIA (J581) to be effective 4/18/2018.

Filed Date: 5/2/18.

Accession Number: 20180502-5073.

Comments Due: 5 p.m. ET 5/23/18.

Docket Numbers: ER18-1509-000.

Applicants: ISO New England Inc.

Description: Petition for Waiver of Tariff Provisions of ISO New England Inc.

Filed Date: 5/2/18.

Accession Number: 20180502-5089.

Comments Due: 5 p.m. ET 5/23/18.

Docket Numbers: ER18-1510-000.

Applicants: Appalachian Power Company.

Description: § 205(d) Rate Filing: OATT-Attachment K, AEPTX Rate Update—Amendment to be effective 5/2/2018.

Filed Date: 5/2/18.

Accession Number: 20180502-5098.

Comments Due: 5 p.m. ET 5/23/18.

Take notice that the Commission received the following electric securities filings:

Docket Numbers: ES18-35-000.

Applicants: El Paso Electric Company.

Description: Application for Renewal of Section 204 Authorization of El Paso Electric Company.

Filed Date: 4/30/18.

Accession Number: 20180430-5506.

Comments Due: 5 p.m. ET 5/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2018.
Nathaniel J. Davis, Sr.,
Deputy Secretary.

[FR Doc. 2018-09749 Filed 5-7-18; 8:45 am]

BILLING CODE 6717-01-P